DEPARTMENT OF HEALTH AND HUMAN SERVICES

Centers for Medicare & Medicaid Services

[Document Identifier: CMS-10233, CMS-10234 and CMS-10236]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: New collection; Title of Information Collection: Regional Preferred Provider Organization (RPPO) Reconciliation Cost Report; Form Number: CMS-10233 (OMB#: 0938-New); Use: The Medicare Prescription Drug, Improvement, and Modernization Act of 2003 (MMA), Title II, Subtitle C (Offering of Medicare Advantage Regional Plans; Medicare Advantage Competition) provided for the establishment of Medicare Advantage Regional Plans. Subsequently, the Regional Preferred Provider Organization (RPPO) program was developed and began contracting with Managed Care Organizations (MCOs) and enrolling beneficiaries for the 2006 contract year. Section 1858 of the Social Security Act provides for risk sharing with RPPOs to be in place for contract years 2006 and 2007. The Code of Federal Regulations at 42 CFR 422.458 provides specific direction with respect to how the Centers for Medicare and Medicaid Services (CMS) will share risk with the RPPOs. The regulations require CMS to collect Allowable Cost data, and to compare this data to Target Amounts. If the comparison demonstrates that there were either savings or losses in the contract year, the regulations provide specific risk corridors to be used in determining the Risk Sharing Reconciliation amount due to either the plan or CMS. The Risk Sharing Reconciliation cost report will be used to collect the information necessary to accurately reconcile the payments made to RPPOs for the 2006 and 2007 contract years. Frequency: Reporting—Annually; Affected Public: Business or other for-profit and Not-for-profit institutions; Number of Respondents: 14; Total Annual Responses: 14; Total Annual Hours: 1,120.

2. Type of Information Collection Request: New collection; Title of Information Collection: State Plan Pre-print implementing Section 6087 of the Deficit Reduction Act: Optional Self-Direction Personal Assistance Services (PAS) Program (Cash and Counseling); Form Number: CMS-10234 (OMB#: 0938-New); Use: Information submitted via the State Plan Amendment (SPA) pre-print will be used by the Centers for Medicare & Medicaid Services (CMS) Central and Regional Offices to analyze a State's proposal to implement Section 6087 of the Deficit Reduction Act (DRA). State Medicaid Agencies will complete the SPA pre-print, and submit it to CMS for a comprehensive analysis. The pre-print contains assurances, check-off items, and areas for States to describe policies and procedures for subjects such as quality assurance, risk management, and voluntary and involuntary disenrollment; Frequency: Reporting—Once; Affected Public: State, Local, or Tribal Government; Number of Respondents: 56; Total Annual Responses: 30; Total Annual Hours: 600.

3. Type of Information Collection Request: New collection; Title of Information Collection: Disclosure of Financial Relationships Report (“DFRR”); Form Number: CMS-10236 (OMB#: 0938-New); Use: Section 1877(f) of the Social Security Act requires that each entity providing covered items or services for which payment may be made shall provide the Secretary with information concerning the entity's ownership, investment, and compensation arrangements, in such form, manner, and at such times as the Secretary shall specify. DFRR is a new collection instrument that will be used by CMS to obtain information necessary to analyze each hospital's compliance with Section 1877 of the Social Security Act (“the physician self-referral law”), and implementing regulations (42 Code of Federal Regulations, Subpart J). Frequency: Reporting—Once; Affected Public: Business or other for-profit and Not-for-profit institutions; Number of Respondents: 500; Total Annual Responses: 500; Total Annual Hours: 2,000.

To obtain copies of the supporting statement and any related forms for the proposed paperwork collections referenced above, access CMS' Web Site address at http://www.cms.hhs.gov/PaperworkReductionActof1995, or e-mail your request, including your address, phone number, OMB number, and CMS document identifier, to Paperwork@cms.hhs.gov, or call the Reports Clearance Office on (410) 786-1326.

To be assured consideration, comments and recommendations for the proposed information collections must be received at the address below, no later than 5 p.m. on July 17, 2007.

CMS, Office of Strategic Operations and Regulatory Affairs, Division of Regulations Development—B, Attention: William N. Parham, III, Room C4-26-05, 7500 Security Boulevard, Baltimore, Maryland 21244-1850.

Dated: May 11, 2007.
Michelle Shortt,
Director, Regulations Development Group, Office of Strategic Operations and Regulatory Affairs.

[FR Doc. E7-9472 Filed 5-17-07; 8:45 am]

BILLING CODE 4120-01-P